NATIONAL COMMISSION ON LIBRARIES AND INFORMATION SCIENCE

Open Meeting

AGENCY: National Commission on Libraries and Information Science.

Matter to be considered: Proposed Closure and Transfer of Functions of National Technical Information Service (NTIS)

Summary: In fulfillment of its statutory mandate to advise the President and the Congress on national and international library and information policies and plans, the Commission has been studying the proposal made in August 1999 by Secretary of Commerce William Daley to close the National Technical Information Service (NTIS) and transfer its collections, functions, services, and assets to the Library of Congress. The Commission has convened two meetings of interested parties for the purpose of allowing them to comment and to offer recommendations. More than 75 major stakeholders representing federal agencies, libraries and the private sector participated in the earlier meetings resulting in narrowing the number of options being considered for the future of NTIS.

In an effort to ensure that all interested parties have the opportunity to be heard, NCLIS is scheduling one additional meeting to review a draft of the Commission's findings. The Commission will then review all comments, before making its final recommendation to Congress and the Administration.

Date and Time: Tuesday, February 29, 2000 at 9:00 a.m. until 3:00 p.m.

Place: 253 Russell Senate Office Building.

Letters to legislators and NCLIS testimony before the Senate Subcommittee on Science, Technology and Space, Committee on Commerce, Science and Transportation as well as comments, reports and summaries of the earlier meetings can be viewed on the NCLIS web site at http://www.nclis.gov/info/ntis/ntis.html. Anyone wishing to make comments on the deliberations or to present statements may contact Woody Horton at (202) 606-9200 or through e-mail at whorton@nclis.gov no later than 10:00 a.m. February 25, 2000. All comments received will be made publicly available on the NCLIS website.

To make special arrangements for physically challenged persons, contact Barbara Whiteleather (202) 606-9200.

Dated: February 9, 2000.
Robert S. Willard,
Executive Director, NCLIS.

[FR Doc. 00-3364 Filed 2-11-00; 8:45 am]

BILLING CODE 7527-01-M